INTERNATIONAL TRADE COMMISSION

[Investigation No. 731-TA-1469 (Final)]

Wood Mouldings and Millwork Products From Brazil; Termination of Investigation

AGENCY: United States International Trade Commission.

ACTION: Notice.

SUMMARY: On January 4, 2021, the Department of Commerce published notice in the Federal Register of a negative final determination of sales at less than fair value in connection with the subject investigation concerning Brazil (86 FR 70). Accordingly, the antidumping duty investigation concerning wood mouldings and millwork products from Brazil (Investigation No. 731-TA-1469 (Final)) is terminated.

DATES: January 4, 2021.

FOR FURTHER INFORMATION CONTACT: Keysha Martinez (202-205-2136), Office of Investigations, U.S. International Trade Commission, 500 E Street SW, Washington, DC 20436. Hearing-impaired individuals are advised that information on this matter can be obtained by contacting the Commission's TDD terminal on 202-205-1810. Persons with mobility impairments who will need special assistance in gaining access to the Commission should contact the Office of the Secretary at 202-205-2000. General information concerning the Commission may also be obtained by accessing its internet server (https://www.usitc.gov). The public record for this investigation may be viewed on the Commission's electronic docket (EDIS) at https://edis.usitc.gov.

Authority: This investigation is being terminated under authority of title VII of the Tariff Act of 1930 and pursuant to section 207.40(a) of the Commission's Rules of Practice and Procedure (19 CFR 207.40(a)). This notice is published pursuant to section 201.10 of the Commission's rules (19 CFR 201.10).

By order of the Commission.
Issued: January 5, 2021.
Lisa Barton,
Secretary to the Commission.

[FR Doc. 2021-00140 Filed 1-7-21; 8:45 am]

BILLING CODE 7020-02-P